DEPARTMENT OF EDUCATION

[CFDA No: 84.353]

Office of Vocational and Adult Education; Tech-Prep Demonstration Program (TPDP); Notice Inviting Applications for New Awards for Fiscal Year (FY) 2001

Note to Applicants: This notice is a complete application package. Together with the statute authorizing the program and the Education Department General Administrative Regulations (EDGAR), the notice contains all of the information, application forms, and instructions needed to apply for a grant under this competition.

Summary: The Secretary invites applications for new awards of FY 2001 funds under the Tech-Prep Demonstration Program (TPDP) authorized by section 207 of the Carl D. Perkins Vocational and Technical Education Act of 1998 (Perkins III) (20 U.S.C.A. 2301 et seq.), and announces deadline dates for the transmittal of applications for funding under that program authority.

Purpose of Program: TPDP provides grants to enable consortia described in section 204(a) of Perkins III to carry out tech-prep education projects that involve the location of a secondary school on the site of a community college, a business as a member of the consortium, and the voluntary participation of secondary school students.

Eligible Applicants: To be eligible for funding under the TPDP, a consortium must include at least one member in each of the following three categories:

(1) a local educational agency, an intermediate educational agency, an area vocational and technical education school serving secondary school students, or a secondary school funded by the Bureau of Indian Affairs;

(2) (a) a nonprofit institution of higher education that offers a 2-year associate degree, 2-year certificate, or 2-year postsecondary apprenticeship program, or (b) a proprietary institution of higher education that offers a 2-year associate degree program; and

(3) a business.

Under the provisions of section 204(a)(1) of Perkins III, to be eligible for consortium membership both nonprofit and proprietary institutions of higher education must be qualified as institutions of higher education pursuant to section 102 of the Higher Education Act of 1965 (HEA), including institutions receiving assistance under the Tribally Controlled College or University Assistance Act of 1978 (25 U.S.C. 1801 et seq.) and tribally controlled postsecondary vocational and technical institutions.

In addition, nonprofit institutions of higher education are eligible only if they are not prohibited from receiving assistance under HEA, title IV, part B (20 U.S.C. 1071 et seq.), pursuant to the provisions of HEA section 435(a)(3) (20 U.S.C. 1083(a)). Proprietary institutions of higher education are eligible only if they are not subject to a default management plan required by the Secretary.

Applicants must submit a copy of the consortium agreement, as well as evidence that each of the required categories of membership has been satisfied and that each of the required members is eligible for membership under the provisions of Perkins III.

Under the provisions of section 204(a)(2), consortia also may include one or more: (1) institutions of higher education that award baccalaureate degrees; (2) employer organizations; or (3) labor organizations.

Note: Eligible consortia seeking to apply for funds should read and follow the regulations in 34 CFR 75.127-75.129, which apply to group applications.

Deadline for Transmittal of Applications: September 17, 2001.

Deadline for Intergovernmental Review: November 16, 2001.

Project Period: 36 months.

Applicants under this competition are required to provide detailed budget information for each year of the proposed project and for the total grant requested. The Department will negotiate funding levels for each 12-month period of the grant at the time of the initial award.

Note: The Secretary has concluded that entire, multi-year projects funded by three-year awards will be necessary for TPDP grantees to fully meet the statutory purposes of section 207 and the requirements of this notice.

By definition, tech-prep is designed to prepare students enrolled in career-technical education at the secondary level to graduate from high school and make a successful transition to postsecondary occupational-technical education and high skills, high wage employment.

As outlined in this notice, three-year funding will permit grantees to devote up to nine months to planning and program development, to enroll a cohort of voluntary student participants for a full two years at the secondary level, and then to follow and evaluate their transition to postsecondary education and employment for at least six months after graduation.

Available Funds: $5,000,000.

Note: The Secretary may reserve up to $50,000 from these funds for the peer review of applications.

Estimated Range of Awards: $400,000 to $600,000 for the 36-month project period.

Estimated Average Size of Awards: $500,000.

Estimated Number of Awards: 10.

Note: The Department is not bound by any estimates in this notice.

Applicable Statute and Regulations

(a) The relevant provisions of Perkins III, including:

(1) Section 202 (Definitions of Articulation Agreement, Community College, and Tech-Prep Education Program).

(2) Section 207 (Demonstration Program).

(3) The relevant portions of sections 204 (Tech-Prep Education) and 205 (Consortium Applications).

(4) Section 3 (Definitions, except for terms defined in section 202).

(5) Section 311(a) (Supplement Not Supplant).

(6) Section 314 (Voluntary Selection and Participation).

(7) Section 315 (Limitation for Certain Students (prior to the seventh grade)).

(8) Section 316 (Federal Laws Guaranteeing Civil Rights).

(b) The Education Department General Administrative Regulations (EDGAR) as follows:

(1) 34 CFR part 74 (Administration of Grants and Agreements to Institutions of Higher Education, Hospitals, and Other Nonprofit Organizations).

(2) 34 CFR part 75 (Direct Grant Programs).

(3) 34 CFR part 77 (Definitions that Apply to Department Regulations).

(4) 34 CFR part 80 (Uniform Administrative Requirements for Grants and Cooperative Agreements to State and Local Governments).

(5) 34 CFR part 81 (General Education Provisions Act—Enforcement).

(6) 34 CFR part 82 (New Restrictions on Lobbying).

(7) 34 CFR part 85 (Government-wide Debarment and Suspension (Nonprocurement) and Government-wide Requirements for Drug-Free Workplace (Grants)).

(8) 34 CFR part 86 (Drug and Alcohol Abuse Prevention).

(9) 34 CFR part 97 (Protection of Human Subjects).

(10) 34 CFR part 98 (Student Rights in Research, Experimental Programs and Testing).

(11) 34 CFR part 99 (Family Education Rights and Privacy).

Description of the Program

Program Requirements

Title II of Perkins III authorizes a State-administered grant program to support Tech-Prep Education: coherent, non-duplicative, vocational-technical programs of study that meet specific criteria set forth in sections 202(a)(3) and 204(c) of Perkins III. Spanning at least two years each at the secondary and postsecondary levels, and leading to an associate degree or certificate and a high skills, high wage career, tech-prep represents the most comprehensive educational strategy preparing students for entry into the non-baccalaureate sectors of the labor market, particularly the technician/technologist sector.

Section 207 authorizes TPDP projects demonstrating a particular form of tech-prep. Under the TPDP, the Secretary awards grants to eligible consortia to enable them to carry out tech-prep education projects that involve a secondary school located on the site of a community college, a business as a member of the consortium, and the voluntary participation of secondary school students in the program.

In addition, as required by sections 207(b) and 207(d), funded TPDP projects must meet all of the requirements of the Perkins III State-administered Tech-Prep Education Program in general (with the exception of articulation agreements with 4-year institutions of higher education), as set forth in sections 202(3) and 204(c) of Perkins III, and modified by section 207(d)(2).

See Appendix B for the key applicable legal requirements for Tech-Prep Education projects supported under section 207 of Perkins III.

Competition Requirements

The educational community has exhibited considerable interest in the growing number of pilot projects and other initiatives involving secondary schools located on the campuses of community colleges. The campus location enables these schools to improve the quality of teaching and learning by tapping into the resources of community colleges. Students are able to take advantage of the advanced technology, quality skill training facilities, rich curriculum, career guidance and academic counseling services, employer connections, and preparation for further education and lifelong learning that are the hallmarks of the U.S. community college system.

Projects that involve the “virtual” location of a secondary school on the site of a community college, as well as projects that involve satellite community college sites located on the premises of secondary schools, are not eligible for support under this competition. This is consistent with the existing literature about the “middle college” co-location program format, which suggests that the physical presence of secondary school students on the campus of a community college can have a positive impact on their morale, commitment to learning, and likelihood of successfully graduating from high school and transitioning to postsecondary education.

To ensure the high quality of TPDP projects assisted under this competition, and the achievement of the purposes of section 207 of Perkins III, the Secretary establishes the following additional program requirements. The requirements apply to all applicants seeking funding under this competition.

(1) Planning and Implementation: Each TPDP project must implement the full, two-year secondary component of a tech-prep program of study during the period of funding under this competition. Student participation in TPDP projects assisted under this competition must begin no later than the fall term of 2002. The Secretary expects to award grants in January of 2002.

Applicants may propose to devote up to nine months to planning, program development, and student recruitment and enrollment, depending on the actual dates that grants are awarded and fall terms begin.

(2) Evaluation: Each TPDP project assisted under this competition must follow participating secondary students for at least six months after graduation and evaluate their transition to the two-year postsecondary component of the tech-prep program, other postsecondary education programs, or to employment.

A central focus of the project evaluation must be an assessment of the academic and related outcomes of participating students, including student academic and technical skill achievement, high school graduation, enrollment, and, to the extent feasible, persistence, and success in postsecondary education, and labor market entry, in comparison with those of similar students who pursued other programs of study.

In addition to being consistent with the Perkins III requirement that recipients measure levels of performance of their vocational and technical programs, this notice is harmonious with the Department's promotion of accountability and performance measures under the Government Performance and Results Act (GPRA). (Applicants should read and follow the regulations in 34 CFR 75.590-75.592, which further describe grantee evaluation requirements.)

Note: The specific requirements of GPRA are discussed in Appendix A of this notice.

(3) Reporting: For each year of project activity and at the conclusion of Federal funding, grantees must submit to the Secretary an annual performance report that: summarizes project progress and significant accomplishments, both with respect to the process of implementation and the outcomes of student participation; identifies any barriers to continued progress and outlining solutions; reviews prospects for sustained operations after the cessation of Federal support; highlights opportunities for replication and specifies implications for future research and practice. TPDP projects are also subject to the State performance accountability system established under section 113 of Perkins III and will report separately to the State eligible agency for Perkins III, following the procedures and requirements established by that agency.

Allowable Activities and Expenditures

Section 207(b)(2) specifies that TPDP projects may provide summer internships at a business for students or teachers. Other allowable activities and expenditures for TPDP projects include, but are not limited to: staff recruitment, selection, and hiring; acquisition of tech-prep program equipment; negotiation, ratification, and updating of articulation agreements; curriculum design; professional development for secondary and postsecondary faculty, counselors, and administrators; development and maintenance of business and industry partnerships; and recruitment and enrollment of students.

Section 207 gives applicants broad latitude for innovation and experimentation in terms of both the institutional framework of the tech-prep demonstration program and the program model to be carried out.

For example, although tech-prep education by definition includes at least two years of education at the secondary level preceding high school graduation and two years of postsecondary education or apprenticeship training, section 204(c)(3)(B) authorizes tech-prep programs that allow students to concurrently complete both secondary and postsecondary courses, and simultaneously satisfy requirements for a high school diploma and an associate degree or other postsecondary credential.

The Secretary recommends that applicants consult with appropriate State agencies in developing their applications, including, particularly, the State eligible agency responsible for administering Perkins III.

Unallowable Costs

(1) Supplanting. In accordance with section 311(a) of Perkins III, funds under this program may not be used to supplant non-Federal funds used to carry out vocational and technical education activities and tech-prep activities. Further, the prohibition against supplanting also means that grantees are required to use their negotiated restricted indirect cost rate under this program. (34 CFR 75.563).

Because of the statutory prohibition against supplanting, the Secretary cautions applicants not to plan to use Federal funds awarded under section 207 to replace non-Federal funding already available for support of the TPDP projects to be assisted.

Further, the Secretary is concerned that TPDP funds may be used to replace Federal student financial aid. The Secretary wishes to highlight the fact that the statute does not authorize the Secretary to fund projects that serve primarily as entities through which students may apply for and receive tuition and other financial assistance.

(2) Limitation on services. Section 315 of Perkins III prohibits the use of funds received under the Act to provide vocational and technical education programs to students prior to the seventh grade.

(3) Construction. Under EDGAR (34 CFR 75.533), TPDP grants cannot be used for the acquisition of real property or construction.

(4) Articulation Agreements with Four-Year Institutions. Under the provisions of section 207(d), tech-prep articulation agreements with four-year institutions cannot be supported with funds awarded under section 207. However, articulation agreements with four-year institutions can be developed using other resources by applicants who wish to establish “open-ended” tech-prep career pathways. Also, the inclusion of institutions of higher education that award baccalaureate degrees in TPDP consortia is allowable under section 204(a)(2)(A).

Special Considerations

In addition to the points to be awarded to applicants based on the selection criteria, under section 207(d)(3) of Perkins III the Secretary awards 5 additional points to applications that:

(1) Provide for effective employment placement activities;

(2) Effectively address the issues of school dropout prevention and reentry, as well as the needs of special populations;

(3) Provide education and training in career areas or skills in which there are significant workforce shortages, including the information technology industry; and

(4) Demonstrate how tech-prep programs will help students meet high academic and employability competencies.

Invitational Priorities

The Secretary is particularly interested in applications that, within the program requirements for this competition, meet one or both of the following invitational priorities. Under 34 CFR 75.105(c)(1), the Secretary does not give an application that meets invitational priorities a competitive or absolute preference over other applications.

Invitational Priority 1: Applications that propose innovative methods for providing inservice training for teachers, counselors, and administrators at the secondary and postsecondary levels, particularly methods that both emphasize and exemplify best practices in contextual teaching and learning.

Invitational Priority 2: Applications that propose to offer high quality paid work-based learning opportunities to all participants, and to award portable, industry-validated skill certificates.

Selection Criteria

The Secretary uses the following selection criteria to evaluate applications for new grants under this competition. The Secretary awards a total possible score of 100 criteria points. The maximum possible score for each criterion is indicated in parentheses.

(a) Quality of the project design. (35 points)

(1) The Secretary considers the quality of the design of the proposed project.

(2) In determining the quality of the design of the proposed project, the Secretary considers the following factors:

(i) The extent to which the proposed project presents a comprehensive, detailed, and credible plan to implement all of the required elements of tech-prep education programs specified in sections 202(3) and 204(c)(1)-(3) of Perkins III (see Appendix B);

(ii) The extent to which that plan provides for all of the required services for tech-prep teachers, counselors, and participants, including members of special populations, specified in section 204(c)(4)-(7), including the academic and career counseling and employment placement training required by Section 204(c)(5).

(iii) The extent to which the goals, objectives, and outcomes to be achieved by the proposed project support the purposes of section 207—the demonstration of tech-prep education programs involving the location of a secondary school on the site of a community college, a business as a member of the consortium, and the voluntary participation of secondary school students—and are clearly specified and measurable.

(iv) The extent to which the required members of the consortium under sections 204(a) and 207 have been involved with the design of the proposed project and have made a formal commitment to its implementation.

(v) The extent to which the business member or members of the consortium or other employers have agreed to provide opportunities for structured work-based learning, combining both academic and vocational-technical knowledge and skills and integrated into the tech-prep curriculum, such as summer internships for students and/or teachers as authorized under section 207(b)(2).

(b) Quality of the management plan. (20 points) (1) The Secretary considers the quality of the management plan for the proposed project.

(2) In determining the quality of the management plan for the proposed project, the Secretary considers the following factors:

(i) The adequacy of the management plan to achieve the objectives of the proposed project, including clearly defined responsibilities, timelines, and milestones for accomplishing project tasks.

(ii) The extent to which the management plan describes the role of each consortium member in achieving the objectives of the proposed project.

(iii) The extent to which the time commitments of the project director and other key personnel are appropriate and adequate to meet the objectives of the proposed project.

(c) Quality of project personnel. (15 points)

(1) The Secretary considers the quality of the personnel who will carry out the proposed project.

(2) In determining the quality of project personnel, the Secretary considers the extent to which the applicant encourages applications for employment from members of groups that have traditionally been underrepresented based on race, color, national origin, gender, age, or disability.

(3) In addition, the Secretary considers the following factors:

(i) The qualifications, including relevant training and experience, of the project director.

(ii) The qualifications, including relevant training and experience, of key project personnel, including faculty, counselors, administrators, project consultants, and subcontractors.

(d) Adequacy of resources. (10 points)

(1) The Secretary considers the adequacy of resources for the proposed project.

(2) In determining the adequacy of resources for the proposed project, the Secretary considers the following factors:

(i) The adequacy of support, including facilities, equipment, supplies, and other resources, from the participating institutions.

(ii) The extent to which the budget is adequate to support the proposed project.

(iii) The extent to which the costs are reasonable in relation to the objectives and design of the proposed project.

(iv) The level of demonstrated commitment of each consortium member to the implementation and success of the proposed project.

(v) The potential for continued and sustained support of the project after Federal funding ends, including, as appropriate, the demonstrated commitment of appropriate entities to such support.

(e) Quality of the project evaluation. (20 points)

(1) The Secretary considers the quality of the evaluation to be conducted by an independent evaluator of the proposed project.

(2) In determining the quality of the evaluation, the Secretary considers the following factors:

(i) The extent to which the proposed evaluation will collect and analyze a comprehensive set of academic and related outcomes of participating students, including: academic and technical skill achievement; high school graduation; enrollment, and, to the extent feasible, persistence and success in postsecondary education; and labor market entry.

(ii) The extent to which the proposed evaluation will use rigorous, scientifically accepted methods to assess the effectiveness of the project, including experimental or quasi-experimental methods in which program participants are matched with non-participants that possess similar pre-program characteristics (e.g., attendance, academic and technical skill results, grade point average, socioeconomic status), and outcomes for both groups are documented and compared.

(iii) The extent to which the proposed evaluation will produce qualitative data that describes the implementation of the project and the experiences of the students.

(iv) The extent to which the methods of evaluation will provide performance feedback and permit periodic assessment of progress toward achieving intended outcomes.

Intergovernmental Review of Federal Programs

This program is subject to the requirements of Executive Order 12372 (Intergovernmental Review of Federal Programs) and the regulations in 34 CFR part 79.

One of the objectives of the Executive order is to foster an intergovernmental partnership and to strengthen federalism by relying on State and local processes for State and local government coordination and review of proposed Federal financial assistance.

Applicants must contact the appropriate State Single Point of Contact to find out about, and to comply with, the State's process under Executive Order 12372. Applicants proposing to perform activities in more than one State should immediately contact the Single Point of Contact for each of those States and follow the procedures established in each State under the Executive order.

If you want to know the name and address of any State Single Point of Contact (SPOC), you may view the latest SPOC list on the OMB web site at the following address:

http://www.whitehouse.gov/omb/grants/spoc.html.

In States that have not established a process or chosen a program for review, State, area-wide, regional, and local entities may submit comments directly to the Department.

Any State Process Recommendation and other comments submitted by a State Single Point of Contact and any comments from State, area-wide, regional, and local entities must be mailed or hand-delivered by the date indicated in this notice to the following address: The Secretary, E.O. 12372-CFDA #84.353, U.S. Department of Education, Room 7E200, 400 Maryland Avenue, SW, Washington, DC 20202-0125.

Proof of mailing will be determined on the same basis as applications (see 34 CFR 75.102). Recommendations or comments may be hand-delivered until 4:30 p.m. (Eastern time) on the date indicated in this notice.

PLEASE NOTE THAT THE ABOVE ADDRESS IS NOT THE SAME ADDRESS AS THE ONE TO WHICH THE APPLICANT SUBMITS ITS COMPLETED APPLICATION. DO NOT SEND APPLICATIONS TO THE ABOVE ADDRESS.

Waiver of Rulemaking

It is the Secretary's practice, in accordance with the Administrative Procedure Act (5 U.S.C. 553), to offer interested parties the opportunity to comment proposed rules. Section 437(d)(1) of the General Education Provisions Act (GEPA) exempts from formal rulemaking requirements rules governing the first grant competition under a new or substantially revised program authority (20 U.S.C. 1232(d)(1)). The program authority for the TPDP was newly established on October 31, 1998, by Public Law 105-332, and this is the first grant competition under that authority. The Secretary, in accordance with section 437(d)(1) of GEPA, has decided to forego public comment in order to ensure timely grant awards. These requirements will apply only to the FY 2001 grant competition.

Instructions for Transmittal of Applications

Note: Some of the procedures in these instructions for transmitting applications differ from those in EDGAR (34 CFR 75.102). Under the Administrative Procedure Act (5 U.S.C. 553), the Department generally offers interested parties the opportunity to comment on proposed regulations. However, these amendments make procedural changes only and do not establish new substantive policy. Therefore, under 5 U.S.C. 553(b)(A), the Secretary has determined that proposed rulemaking is not required.

Pilot Project for Electronic Submission of Applications

The U.S. Department of Education is expanding its pilot project of electronic submission of applications to include certain formula grant programs, as well as additional discretionary grant competitions. The TPDP under section 207 Perkins III is one of the programs included in the pilot project. If you are an applicant for TPDP funding, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information-Non-Construction Programs (ED 524), and all necessary assurances and certifications.

• Fax a signed copy of the Application for Federal Assistance (ED 424) after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center within three working days of submitting your electronic application. We will indicate a fax number in e-APPLICATION at the time of your submission.

• We may request that you give us original signatures on all other forms at a later date.

• You may access the electronic grant application for the TPDP at: http://e-grants.ed.gov.

For additional information about the e-APPLICATION pilot project, see Parity Guidelines between Paper and Electronic Applications, below.

If you want to apply for a grant and be considered for funding, you must meet the following deadline requirements:

(A) If You Send Your Application by Mail:

You must mail the original and two copies of the application on or before the deadline date to: U.S. Department of Education, Application Control Center, Attention: CFDA #84.353, Washington, DC 20202-4725.

You must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

(B) If You Deliver Your Application by Hand:

You or your courier must hand deliver the original and two copies of the application by 4:30 p.m. (Eastern Time) on or before the deadline date to: U.S. Department of Education, Application Control Center, Attention: CFDA #84.353, Room 3633, Regional Office Building 3, 7th and D Streets, SW., Washington, DC.

The Application Control Center accepts application deliveries daily between 8:00 a.m. and 4:30 p.m. (Eastern Time), except Saturdays, Sundays, and Federal holidays. The Center accepts application deliveries through the D Street entrance only. A person delivering an application must show identification to enter the building.

(C) If You Submit Your Application Electronically:

You must submit your grant application through the Internet using the software provided on the e-Grants Web site (http://e-grants.ed.gov) by 4:30 p.m. (Eastern Time) on the deadline date.

The regular hours of operation of the e-Grants Web site are 6:00 a.m. until 12:00 midnight (Eastern time) Monday—Friday and 6:00 a.m. until 7:00 p.m. Saturdays.

The system is unavailable on the second Saturday of every month, Sundays, and Federal holidays. Please note that on Wednesdays the Web site is closed for maintenance at 7:00 p.m. (Eastern Time).

Notes: (1) The U.S. Postal Service does not uniformly provide a dated postmark. Before relying on this method, you should check with your local post office.

(2) If you send your application by mail or deliver it by hand or by a courier service, the Application Control Center will mail a Grant Application Receipt Acknowledgment to you. If you do not receive the notification of application receipt within 15 days from the date of mailing the application, you should call the U.S. Department of Education Application Control Center at (202) 708-9493.

(3) You must indicate on the envelope and—if not provided by the Department—in Item 3 of the Application for Federal Education Assistance (ED 424; revised November 12, 1999) the CFDA number—and suffix letter, if any—of the competition under which you are submitting your application.

(4) If you submit your application through the Internet via the e-Grants Web site, you will receive an automatic acknowledgment when we receive your application.

Parity Guidelines Between Paper and Electronic Applications

The Department of Education is expanding the pilot project, which began in FY 2000 and allows applicants to use an Internet-based electronic system for submitting applications. This competition is among those that have an electronic submission option available to all applicants. The system, called e-APPLICATION, formerly e-GAPS (Electronic Grant Application Package System), allows an applicant to submit a grant application to us electronically, using a current version of the applicant's Internet browser. To see e-APPLICATION visit the following address: http://e-grants.ed.gov.

In an effort to ensure parity and a similar look between applications transmitted electronically and applications submitted in conventional paper form, e-APPLICATION has an impact on all applicants under this competition.

Users of e-APPLICATION, a data driven system, will be entering data on-line while completing their applications. This will be more interactive than just e-mailing a soft copy of a grant application to us. If you participate in this voluntary pilot project by submitting an application electronically, the data you enter on-line will go into a database and ultimately will be accessible in electronic form to our reviewers.

This pilot project is another step in the Department's transition to an electronic grant award process. In addition to e-APPLICATION, the Department is conducting a limited pilot of electronic peer review (e-READER) and electronic annual performance reporting (e-REPORTS).

To help ensure parity and a similar look between electronic and paper copies of grant applications, we are asking each applicant that submits a paper application to adhere to the following guidelines:

• Submit your application on 8½″ by 11″ paper.

• Leave a 1-inch margin on all sides.

• Use consistent font throughout your document. You may also use boldface type, underlining, and italics. However, please do not use colored text.

• Please use black ink for illustrations, including charts, tables, graphs and pictures.

• For the narrative component, your application should consist of the number and text of each selection criterion followed by the narrative. The text of the selection criterion, if included, does not count against any page limitation.

• Place a page number at the bottom right of each page beginning with 1, and number your pages consecutively throughout your document.

Application Instructions and Forms

All forms and accompanying instructions are included as Appendix D of this notice. Questions and answers pertaining to this program are included, as Appendix C, to assist potential applicants.

To apply for an award under this program, your application must be organized in the following order and include the following five parts. The parts and additional materials are as follows:

Part I: Application for Federal Education Assistance (ED 424 (Rev. 1/12/99)) and instructions.

Part II: Budget Information—Non-Construction Programs (ED Form No. 524) and instructions.

Part III: Budget Narrative (See instructions in Appendix A).

Part IV: Program Narrative (See instructions in Appendix A).

Part V: Additional Assurances and Certifications:

a. Assurances—Non-Construction Programs (Standard Form 424B).

b. Certification regarding Lobbying, Debarment, Suspension, and Other Responsibility Matters; and Drug-Free Workplace Requirements (ED 80-0013) and instructions.

c. Certification regarding Debarment, Suspension, Ineligibility and Voluntary Exclusion: Lower Tier Covered Transactions (ED Form 80-0014, 9/90) and instructions.

(Note: ED Form 80-0014 is intended for the use of grantees and should not be transmitted to the Department.)

d. Disclosure of Lobbying Activities (Standard Form LLL) (if applicable) and instructions.

No grant may be awarded unless a completed application form has been received.

FOR FURTHER INFORMATION CONTACT: Chris Lyons, Office of Vocational and Adult Education, U.S. Department of Education, 400 Maryland Avenue, SW (Room 4328, Mary E. Switzer Building), Washington, D.C. 20202-7100. Voice: 202-260-7744; Fax: 202-205-55522; E-mail: christopher.lyons@ed.gov.

Individuals who use a telecommunications device for the deaf (TDD) may call the Federal Information Relay Service (FIRS) at 1-800-877-8339. Individuals with disabilities may obtain this notice in an alternate format (e.g., Braille, large print, audiotape, or computer diskette) on request to the contact persons listed at the beginning of this paragraph. Please note, however, that the Department is not able to reproduce in an alternate format the standard forms included in the notice.

Electronic Access to This Document

You may view this document, as well as all other Department of Education documents published in the Federal Register, in text or portable document format (PDF) on the Internet at the following site:

http://www.ed.gov/legislation/FedRegister

To use PDF you must have the Adobe Acrobat Reader, which is available free at this site. If you have questions about using PDF, call the U.S. Government Printing Office (GPO) toll free at 1-888-293-6498, or in the Washington, DC, area at (202) 512-1530.

Additionally, this notice, as well as other documents concerning the implementation of Perkins III, is available on the Internet at the following site:

http://www.ed.gov/offices/OVAE/VocEd/InfoBoard/legis.html.

Note: The official version of this document is the document published in the Federal Register. Free Internet access to the official edition of the Federal Register and the Code of Federal Regulations is available on GPO Access at:

http://www.access.gpo.gov/nara/index.html

Program Authority: 20 U.S.C. 2328.

Dated: June 28, 2001.
Jon Weintraub,
Acting Deputy Assistant Secretary, Office of Vocational and Adult Education.

Estimated Burden Statement

According to the Paperwork Reduction Act of 1995, no persons are required to respond to a collection of information unless it displays a valid OMB control number. The valid OMB control number for this information collection is 1830-0550. (Expiration date: June 30, 2004). The time required to complete this information collection is estimated to average 50 hours per response, including the time to review instructions, search existing data resources, gather the data needed, and complete and review the information collection.

If you have any comments concerning the accuracy of the time estimate, or suggestions for improving this grant application, please write to: U.S. Department of Education, Washington, DC 20202-4651.

If you have comments or concerns regarding the status of your individual submission under this grant application, write directly to: Christopher D. Lyons, Office of Vocational and Adult Education, U.S. Department of Education, 400 Maryland Avenue, SW (Mary E. Switzer Building, Room 4328), Washington, DC 20202-7100 (e-mail: christopher.lyons@ed.gov).

Appendix A—Instructions

Instructions for Budget Information

Sections A and B—Budget Summary by Categories

(1) Personnel: Show salaries to be paid to personnel for each budget year.

(2) Fringe Benefits: Indicate the rate and amount of fringe benefits for each budget year.

(3) Travel: Indicate the amount requested for both local and out of State travel of Project Staff for each budget year. Include funds for at least one trip per year for two people to attend a Project Directors' Workshop.

(4) Equipment: Indicate the cost of non-expendable personal property that has a cost of $5,000 or more per unit for each budget year.

(5) Supplies: Include the cost of consumable supplies and materials to be used during the project period for each budget year.

(6) Contractual: Show the amount to be used for: (1) procurement contracts (except those which belong on other lines such as supplies and equipment); and (2) subcontracts for each budget year.

(7) Construction: Not Applicable.

(8) Other: Indicate all direct costs not clearly covered by lines 1 through 6 above, including consultants and capital expenditures for each budget year.

(9) Total Direct Cost: Show the total for Lines 1 through 8 for each budget year.

(10) Indirect Costs: Indicate the rate and amount of indirect costs for each budget year. Applicants must use a restricted indirect cost rate.

(11) Training/stipend Cost: Not applicable. This item pertains only to student and institutional allowances.

(12) Total Costs: Show total for lines 9 through 11 for each budget year.

Instructions for Budget Narrative

The budget narrative should explain, justify, and, if needed, clarify your budget summary. For each line item (personnel, fringe benefits, travel, etc.) in your budget, explain why it is there and how you computed the costs. Please be sure that each page of the budget narrative is numbered consecutively.

Instructions for Program Narrative

The program narrative will comprise the largest portion of your application. This part is where you spell out the who, what, when, why, and how, of your proposed project.

Although you will not have a form to fill out for your narrative, there is a format. This format is based on the special consideration and selection criteria. Because your application will be reviewed and rated by a review panel on the basis of the selection criteria, your narrative should follow the order and format of the criteria.

Before preparing your application, you should carefully read the legislation and EDGAR regulations governing this program, and the eligibility requirements, priorities, special consideration criteria, and the selection process and criteria.

Your program narrative should be clear, concise, and to the point. The program narrative should be organized in this way:

(1) Begin the narrative with a one page abstract or summary of your project, including a short description of the project's objectives and activities. Provide a short description of the student populations to be served in the proposed project.

(2) Include a table of contents listing the parts of the narrative in the order of the selection criteria and the page numbers where the parts of the narrative are found. Be sure to number the pages.

(3) Describe the project in detail, addressing each selection criterion in order. Do not simply paraphrase the criteria.

(4) If appropriate, describe how the project meets the special considerations.

(5) Attach a consortium agreement delineating the contribution each member intends to make, signed by the appropriate official for each member, and documenting the fact that the three mandatory membership categories have been satisfied.

(6) Applicants may include supporting documentation as appendices to the narrative. This material should be concise and pertinent to the application.

The Secretary suggests that you limit the program narrative to no more than 50 double-spaced, typed pages (on one side only), although both shorter and longer applications will receive full consideration. Be sure to number consecutively ALL pages in your application.

You are advised that—

(a) The Secretary considers only information contained in the application in ranking applications for funding consideration.

(b) The technical review panel evaluates each application solely on the basis of the special consideration and selection criteria contained in this notice.

(c) Letters of support which are included as appendices to an application (and which are of direct relevance to, or contain commitments that pertain to, the established selection criteria) will be reviewed by the panel. Letters of support which are sent separately from the formal application package will not be considered in the panel review. (34 CFR 75.217)

GPRA Performance Measures

The Government Performance and Results Act of 1993 (GPRA) places new management expectations and requirements on Federal departments and agencies by creating a framework for more effective planning, budgeting, program evaluation, and fiscal accountability for Federal programs. The intent of GPRA is to improve public confidence by holding departments and agencies accountable for achieving program results. Under GPRA, Departments and agencies must clearly describe the goals and objectives of their programs, identify resources and actions needed to accomplish these goals and objectives, develop a means of measuring progress made, and regularly report on their achievement.

One important source of program information on successes and lessons learned is the project evaluation conducted under individual grants.

Factors that may be considered in evaluating the success of TPDP projects may include:

(1) Number of students who participate in TPDP projects;

(2) Number and percent of participating students who master high level academic and technical skills;

(3) Number and percent of participants who receive a high school diploma or GED;

(4) Number and percent of participants who enroll in postsecondary education;

As specified in Competition Requirement (2) and Selection Criterion (e), an evaluation plan must be included in each grant application. The application should describe the plan in detail, including such information as: (1) What types of data will be collected; (2) what instruments will be used; (3) when reports of results and outcomes will become available; and (4) how information will be used by the project to monitor progress and provide accountability information to stakeholders.

Appendix B—Key Tech-Prep Education Legal Requirements

This Appendix sets forth the requirements of sections 202, 204, and 207 of Perkins III. Additional requirements that apply to the TPDP or to this competition are discussed in the notice. This Appendix is provided for the applicant's convenience and is not meant to substitute for a careful reading of all the statutory provisions that are applicable as discussed in the notice. Amendments to section 204 made by section 207 are reflected below.

Title II—Tech-Prep Education

Sec. 202. DEFINITIONS

(a) In this title:

(1) ARTICULATION AGREEMENT—The term “articulation agreement” means a written commitment to a program designed to provide students with a nonduplicative sequence of progressive achievement leading to degrees or certificates in a tech-prep education program.

(2) COMMUNITY COLLEGE—The term “community college”—

(A) means an institution of higher education, as defined in section 101 of the Higher Education Act of 1965, that provides not less than a 2-year program that is acceptable for full credit toward a bachelor's degree; and

(B) includes tribally controlled colleges or universities.

(3) TECH-PREP PROGRAM.—The term “tech-prep program” means a program of study that—

(A) combines at a minimum 2 years of secondary education (as determined under State law) with a minimum of 2 years of postsecondary education in a nonduplicative, sequential course of study;

(B) integrates academic, and vocational and technical, instruction, and utilizes work-based and worksite learning where appropriate and available;

(C) provides technical preparation in a career field such as engineering technology, applied science, a mechanical, industrial, or practical art or trade, agriculture, health occupations, business, or applied economics;

(D) builds student competence in mathematics, science, reading, writing, communications, economics, and workplace skills through applied, contextual academics, and integrated instruction, in a coherent sequence of courses;

(E) leads to an associate or a baccalaureate degree or a postsecondary certificate in a specific career field; and

(F) leads to placement in appropriate employment or to further education.

* * *

Sec. 204. TECH-PREP EDUCATION

(a) GRANT PROGRAM AUTHORIZED—

(1) IN GENERAL— * * *

The grants shall be awarded to consortia between or among—

(A) a local educational agency, an intermediate educational agency or area vocational and technical education school serving secondary school students, or a secondary school funded by the Bureau of Indian Affairs; and

(B)(i) a nonprofit institution of higher education that offers—

(I) a 2-year associate degree program, or a 2-year certificate program, and is qualified as institutions of higher education pursuant to section 102 of the Higher Education Act of 1965 (20 U.S.C. 1002), including an institution receiving assistance under the Tribally Controlled College or University Assistance Act of 1978 (25 U.S.C. 1801 et seq.) and a tribally controlled postsecondary vocational and technical institution; or

(II) a 2-year apprenticeship program that follows secondary instruction, if such nonprofit institution of higher education is not prohibited from receiving assistance under part B of title IV of the Higher Education Act of 1965 (20 U.S.C. 1071 et seq.) pursuant to the provisions of section 435(a)(3) of such Act (20 U.S.C. 1085(a)(3)); or

(ii) a proprietary institution of higher education that offers a 2-year associate degree program and is qualified as an institution of higher education pursuant to section 102 of the Higher Education Act of 1965 (20 U.S.C. 1002), if such proprietary institution of higher education is not subject to a default management plan required by the Secretary.

(2) SPECIAL RULE—In addition, a consortium described in paragraph (1) may include 1 or more—

(A) institutions of higher education that award a baccalaureate degree; and

(B) employer or labor organizations.

* * *

(c) CONTENTS OF TECH-PREP PROGRAM—Each tech-prep program shall—

(1) be carried out under an articulation agreement between the participants in the consortium;

(2) consist of at least 2 years of secondary school preceding graduation and 2 years or more of higher education, or an apprenticeship program of at least 2 years following secondary instruction, with a common core of required proficiency in mathematics, science, reading, writing, communications, and technologies designed to lead to an associate's degree or a postsecondary certificate in a specific career field;

(3) include the development of tech-prep programs for both secondary and postsecondary, including consortium, participants in the consortium that—

(A) meets academic standards developed by the State;

(B) links secondary schools and 2-year postsecondary institutions . . ., including the investigation of opportunities for tech-prep secondary students to enroll concurrently in secondary and postsecondary coursework;

(C) uses, if appropriate and available, work-based or worksite learning in conjunction with business and all aspects of an industry; and

(D) uses educational technology and distance learning, as appropriate, to involve all the consortium partners more fully in the development and operation of programs;

(4) include in-service training for teachers that—

(A) is designed to train vocational and technical teachers to effectively implement tech-prep programs;

(B) provides for joint training for teachers in the tech-prep consortium;

(C) is designed to ensure that teachers and administrators stay current with the needs, expectations, and methods of business and all aspects of an industry;

(D) focuses on training postsecondary education faculty in the use of contextual and applied curricula and instruction; and

(E) provides training in the use and application of technology;

(5) include training programs for counselors designed to enable counselors to more effectively—

(A) provide information to students regarding tech-prep education programs;

(B) support student progress in completing tech-prep programs;

(C) provide information on related employment opportunities;

(D) ensure that such students are placed in appropriate employment; and

(E) stay current with the needs, expectations, and methods of business and all aspects of an industry;

(6) provide equal access, to the full range of technical preparation programs, to individuals who are members of special populations, including the development of tech-prep program services appropriate to the needs of special populations; and

(7) provide for preparatory services that assist participants in tech-prep programs.

* * *

Sec. 207. DEMONSTRATION PROGRAM.

(a) DEMONSTRATION PROGRAM AUTHORIZED—From funds appropriated under subsection (e) of this section for a fiscal year, the Secretary shall award grants to consortia described in section 204(a) of this title to enable the consortia to carry out tech-prep education programs.

(b) PROGRAM CONTENTS—Each tech-prep program referred to in subsection (a) of this section—

(1) shall—

(A) involve the location of a secondary school on the site of a community college;

(B) involve a business as a member of the consortium; and

(C) require the voluntary participation of secondary school students in the tech-prep education program; and

(2) may provide summer internships at a business for students or teachers.

* * *

Appendix C—Questions and Answers

Potential applicants frequently direct questions to officials of the Department regarding application notices and programmatic and administrative regulations governing various direct grant programs. To assist potential applicants, the Department has assembled the following most commonly asked questions followed by the Department's answers.

Q: Can we get an extension of the deadline?

A: No. A closing date may be changed only under extraordinary circumstances. Any change must be announced in the Federal Register and must apply to all applications. Waivers for individual applications cannot be granted regardless of the circumstances.

Q: If I submit a paper application instead of electronic, how many copies of the application should I submit and must they be bound?

A: Applicants who elect to prepare paper applications are required to submit one original and two copies of the grant application. To aid with the review of applications, the Department encourages paper applicants to submit three additional copies of the grant application. However, the Department will not penalize applicants who do not provide additional copies. Sending applications in notebooks, binders, folders, or other coverings is discouraged.

Q: We just missed the deadline for a particular competition. May we submit under another competition?

A: Yes, however, the likelihood of success is not good. A properly prepared application must meet the specifications of the competition to which it is submitted.

Q: I'm not sure which competition is most appropriate for my project. What should I do?

A: We are happy to discuss any such questions with you and provide clarification on the unique elements of the various competitions.

Q: Will you help us prepare our application?

A: We are happy to provide general program information. Clearly, it would not be appropriate for staff to participate in the actual writing of an application, but we can respond to specific questions about application requirements, evaluation criteria, and priorities. Applicants should understand, however, that prior contact with the Department is not required, nor will it in any way influence the success of an application.

Q: When will I find out if I'm going to be funded?

A: You can expect to receive notification as soon as possible after the application closing date, depending on the number of applications received and the number of Department competitions with similar closing dates.

Q: Once my application has been reviewed by the review panel, can you tell me the outcome?

A: No. Every year we are called by a number of applicants who have a legitimate reason for needing to know the outcome of the panel review prior to official notification. Some applicants need to make job decisions, some need to notify a local school district, etc. Regardless of the reason, because final funding decisions have not been made at that point, we cannot share information about the results of panel review with anyone.

Q: Will my application be returned if I am not funded?

A: No. We no longer return unsuccessful applications. Thus, applicants should retain at least one copy of their application.

Q: Can I obtain copies of reviewers' comments?

A: Upon written request, reviewers' comments will be mailed to unsuccessful applicants.

Q: Is travel allowed under these projects?

A: Travel associated with carrying out the project is allowed. Because we may request the project director of funded projects to attend an annual project directors' meeting, you may also wish to include a trip or two to Washington, DC, in the travel budget. Travel to conferences is sometimes allowed when the purpose of the conference will be of benefit and relates to the project.

Q: If my application receives high scores from the reviewers, does that mean that I will receive funding?

A: Not necessarily. It is often the case that the number of applications scored highly by the reviewers exceeds the dollars available for funding projects under a particular competition. The order of selection, which is based on the scores of all the applications reviewed and other relevant factors, determines the applications that can be funded.

Q: What happens during pre-award clarification discussions?

A: During pre-award clarification discussions, technical and budget issues may be raised. These are issues that have been identified during the panel and staff reviews that require clarification. Sometimes issues are stated as “conditions.” These are issues that have been identified as so critical that the award cannot be made unless those conditions are met. Questions may also be raised about the proposed budget. Generally, these issues are raised because an application contains inadequate justification or explanation of a particular budget item, or because the budget item seems unimportant to the successful completion of the project. If you are asked to make changes that you feel could seriously affect the project's success, you may provide reasons for not making the changes or provide alternative suggestions. Similarly, if proposed budget reductions will, in your opinion, seriously affect the project activities, you may explain why and provide additional justification for the proposed expenses. An award cannot be made until all issues under discussion have been resolved.

Q: How do I provide an assurance?

A: Except for SF-424B, “Assurances—Non-Construction Programs,” you may provide an assurance simply by stating in writing that you are meeting a prescribed requirement.

Q: Where can copies of the Federal Register, program regulations, and Federal statutes be obtained?

A: Copies of these materials can usually be found at your local library. If not, they can be obtained from the Government Printing Office by writing to Superintendent of Documents, U.S. Government Printing Office, Washington, DC 20402. Telephone: (202) 708-8228. When requesting copies of regulations or statutes, it is helpful to use the specific name or public law, number of a statute, or part number of a regulation. A copy of the Code of Federal Regulations that contains the Education Department General Administrative Regulations, 34 CFR parts 74, 75, 77, 79, 80, 81, 82, 85, 86, 97, 98, and 99, may be obtained from the Government Printing Office by writing to Superintendent of Documents, P.O. Box 371954, Pittsburgh, PA 15250-7954, or by telephoning (202) 512-1800. It may also be obtained on the internet at: http://www.access.gpo.gov/su—docs, or http://www.access.gpo.gov/nara/cfr.

Federal Register notices can also be accessed on the internet at: http://www.access.gpo.gov/nara/index.html.

Q: Where in the notice does it explain how the required parts of the application should be ordered?

A: The ordering for the required parts of the application is specified in the section of the notice entitled “Application Instructions and Forms.”

BILLING CODE: 4000-01-P

Appendix D—Forms and Instructions 1

[FR Doc. 01-17084 Filed 7-6-01; 8:45 am]

BILLING CODE 4000-01-C